ENVIRONMENTAL PROTECTION AGENCY

[Docket No. EPA-HQ-ORD-2005-0029; FRL-8006-6]

Air Quality Criteria for Oxides of Nitrogen

AGENCY: Environmental Protection Agency (EPA).

ACTION: Notice; call for information.

SUMMARY: The U.S. Environmental Protection Agency (EPA) is undertaking to update and revise, where appropriate, the Air Quality Criteria for Oxides of Nitrogen, EPA/600/8-91/049aF-cF, published in August 1993 by the Office of Research and Development, National Center for Environmental Assessment. Interested parties are invited to assist the EPA in developing and refining the scientific information base for updating the Air Quality Criteria for Oxides of Nitrogen by submitting research studies that have been published, accepted for publication, or presented at a public scientific meeting. Areas where additional new information will be particularly useful to EPA for this project are described in the SUPPLEMENTARY INFORMATION section of this notice.

DATES: All communications and information should be submitted by January 31, 2006.

ADDRESSES: Information may be submitted electronically, by mail, by facsimile, or by hand delivery/courier. Please follow the detailed instructions provided in the section of this notice entitled SUPPLEMENTARY INFORMATION.

FOR FURTHER INFORMATION CONTACT: For details on the period for submission of research information from the public, contact the Office of Environmental Information Docket; telephone: 202-566-1752; facsimile: 202-566-1753; or e-mail: ORD.Docket@epa.gov.

For technical information, contact Dennis Kotchmar, MD, facsimile: 919-541-1818 or e-mail: kotchmar.dennis@epa.gov.

SUPPLEMENTARY INFORMATION:

I. Information About the Project

Section 108(a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised criteria.

Oxides of nitrogen (NOX) are one of six principal (or “criteria”) pollutants for which EPA has established National Ambient Air Quality Standards (NAAQS). Periodically, EPA reviews the scientific basis for these standards by preparing an Air Quality Criteria Document (AQCD). The AQCD provides scientific bases for additional technical and policy assessments that form the basis for EPA decisions on the adequacy of a current NAAQS and the appropriateness of new or revised standards. One of the first steps in this process is to announce the beginning of this periodic NAAQS review and the start of the development of the AQCD, by requesting the public to submit scientific literature that they want to bring to the attention of the Agency. The Clean Air Scientific Advisory Committee (CASAC), a review committee of the EPA's Science Advisory Board (SAB), is mandated by the Clean Air Act with performing an independent expert scientific review of EPA's draft AQCDs. As the process proceeds, the public will have opportunities to review and comment on the draft oxides of nitrogen AQCD. These opportunities will also be announced in the Federal Register.

Since completion of the 1993 Air Quality Criteria for Oxides of Nitrogen, EPA has continued to follow the scientific research on oxides of nitrogen exposure and its effects on health and the environment and has gathered appropriate studies. The Agency is particularly interested in additional new information concerning: (a) Toxicological studies of effects of controlled exposure to nitrogen dioxide or other oxides of nitrogen on laboratory animals and humans; (b) epidemiologic (observational) studies of health effects associated with ambient exposures of human populations to nitrogen dioxide or other oxides of nitrogen; and (c) ecological studies of the effects on agricultural crops and natural terrestrial and/or aquatic ecosystems of ambient exposures to nitrogen dioxide or other oxides of nitrogen. These and other selected literature relevant to a review of the NAAQS for oxides of nitrogen will be assessed in the forthcoming revised Oxides of Nitrogen AQCD. One or more drafts of the Oxides of Nitrogen AQCD are expected to be made available by EPA for public comment and CASAC review during 2006 and 2007. In addition, other opportunities for submission of new peer-reviewed, published (or in-press) papers will be possible as part of public comment on the draft documents that will be reviewed by CASAC.

II. How To Submit Information to the Docket

EPA has established an official public docket for information pertaining to the revision of the oxides of nitrogen criteria document. Submit your comments, identified by Docket ID No. EPA-HQ-ORD-2005-0029, by one of the following methods:

• http://www.regulations.gov: Follow the on-line instructions for submitting comments.

• E-mail: ORD.Docket@epa.gov.

• Fax: 202-566-1753; Office of Environmental Information (OEI) Docket in the Headquarters EPA Docket Center.

• Mail: Office of Environmental Information (OEI) Docket in the Headquarters EPA Docket Center (Mail Code 2822T), U.S. Environmental Protection Agency, 1200 Pennsylvania Avenue, NW., Washington, DC 20460. If you provide information in writing, please submit one unbound original, with pages numbered consecutively, and three copies. For attachments, provide an index, number pages consecutively with the main text, and submit an unbound original and three copies.

• Hand Delivery: Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the public Reading Room is 202-566-1744, and the telephone number for the OEI Docket is 202-566-1752. Such deliveries are only accepted during the Docket's normal hours of operation, and special arrangements should be made for deliveries of boxed information.

Instructions: Direct your comments to Docket ID No. EPA-HQ-ORD-2005-0029. Please adhere to the specified submitting period. Information received or submitted past the closing date will be marked “late” and may only be considered if time permits. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail.

The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider or may delay considering your comment. Electronic files should avoid the use of special characters, any form of encryption, and be free of any defects or viruses. For additional information about EPA's public docket visit the EPA Docket Center home page at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the OEI Docket, EPA/DC, EPA West, Room B102, 1301 Constitution Ave., NW., Washington, DC. The Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

Dated: December 1, 2005.
George Alapas,
Acting Director, National Center for Environmental Assessment.

[FR Doc. E5-7125 Filed 12-8-05; 8:45 am]

BILLING CODE 6560-50-P